DEPARTMENT OF THE INTERIOR

National Park Service

[NPS-PWR-PWRO-0411-10062: 9082-NOCA-409]

General Management Plan/Environmental Impact Statement, Ross Lake National Recreation Area, North Cascades National Park Service Complex, Skagit and Whatcom Counties, WA

AGENCY: National Park Service, Interior.

ACTION: Notice of approval of Record of Decision for General Management Plan.

SUMMARY: Pursuant to § 102(2)(C) of the National Environmental Policy Act of 1969 (Pub. L. 91-190, as amended) and the regulations promulgated by the Council on Environmental Quality (40 CFR part 1505.2), the Department of the Interior, National Park Service (NPS) has prepared and approved a Record of Decision for the Final Environmental Impact Statement for the new General Management Plan (GMP) for Ross Lake National Recreation Area, part of the North Cascades National Park Service Complex (Complex). The requisite no-action “wait period” was initiated December 16, 2011, with the Environmental Protection Agency's Federal Register notification of the filing of the Final Environmental Impact Statement (Final EIS).

Decision: As soon as practical the NPS will begin to implement the stewardship strategies, park operations, and visitor service projects identified and analyzed as the Preferred Alternative (Alternative B) described in the Final EIS. The NPS will recommend legislation to change the name of this unit to North Cascades National Recreation Area (NRA). Other plan elements include: (1) Management focus on the NRA as a gateway to millions of acres of wilderness, (2) provision for continued seaplane access with noise abatement procedures, (3) limited expansion of overnight facilities and concessions, and (4) conversion of 3,559 acres of Thunder Creek Potential Wilderness Area to designated wilderness, pursuant to the Washington Park Wilderness Act of 1988. The full range of foreseeable environmental consequences from implementing the proposed actions were assessed, and appropriate mitigation measures identified. In addition, a No Action alternative and two other alternatives were identified and analyzed. Alternative B was determined to be the “environmentally preferred” course of action.

Copies: Interested parties desiring to review the Record of Decision may obtain a copy by contacting the Superintendent, North Cascades National Park Service Complex, 810 State Route 20, Sedro-Woolley, WA 98284; or via telephone request at (360) 854-7200.

Dated: May 4, 2012.
Patricia L. Neubacher,
Acting Regional Director, Pacific West Region.

[FR Doc. 2012-12376 Filed 5-21-12; 8:45 am]

BILLING CODE 4312-GX-P